DEPARTMENT OF ENERGY

Federal Energy Regulatory Commission

[Docket No. RP05-254-000]

Kern River Gas Transmission Company; Notice of Technical Conference

August 12, 2005.

The Commission, in its order issued July 26, 2005,¹ directed that a technical conference be held to investigate Kern River's allocation of compressor fuel between 2003 expansion shippers and vintage shippers in the General Terms and Conditions of its tariff and to address the concerns raised in the protest of the parties.

¹ Kern River Gas Transmission Company, 112 FERC ¶ 61,132 (2005).

Take notice that a technical conference will be held on Wednesday, September 21, 2005, at 9 a.m., in a room to be designated at the office of the Federal Energy Regulatory Commission, 888 First Street NE., Washington DC 20426.

FERC conferences are accessible under section 508 of the Rehabilitation Act of 1973. For accessibility accommodations please send an e-mail to accessibility@ferc.gov or call toll free 1-866-208-3372 (voice) or 202-208-1659 (TTY), or send a FAX to 202-208-2106 with the required accommodations.

All interested persons and staff are permitted to attend.

Magalie R. Salas,
Secretary.

[FR Doc. E5-4516 Filed 8-18-05; 8:45 am]

BILLING CODE 6717-01-P